DEPARTMENT OF COMMERCE

International Trade Administration

[A-570-851]

Final Results of First New Shipper Review and First Antidumping Duty Administrative Review: Certain Preserved Mushrooms From the People's Republic of China

AGENCY: Import Administration, International Trade Administration, Department of Commerce.

ACTION: Notice of final results of antidumping duty administrative review.

SUMMARY: On November 7, 2000, the Department of Commerce published the preliminary results of the first new shipper review and first administrative review of the antidumping duty order on certain preserved mushrooms from the People's Republic of China with respect to China Processed Food Import & Export Co., Gerber Food (Yunnan) Co., Ltd., and Raoping Xingyu Foods Co., Ltd. (new shipper). The period of review is August 5, 1998, through January 31, 2000.

We received case briefs from the petitioners,¹ Gerber Food (Yunnan) Co., Ltd., and Raoping Xingyu Foods Co., Ltd., and rebuttal briefs from these three parties and China Processed Food Import & Export Co. Based on our analysis of the comments received, we have made changes in the margin calculations. Therefore, the final results differ from the preliminary results. The final weighted-average dumping margins for the reviewed firms are listed below in the section entitled “Final Results of Reviews.”

¹ The petitioners are the Coalition for Fair Preserved Mushroom Trade which includes the American Mushroom Institute and the following domestic companies: L.K. Bowman, Inc., Nottingham, PA; Modern Mushroom Farms, Inc., Toughkenamon, PA; Monterey Mushrooms, Inc., Watsonville, CA; Mount Laurel Canning Corp., Temple, PA; Mushrooms Canning Company, Kennett Square, PA; Southwood Farms, Hockessin, DE; Sunny Dell Foods, Inc., Oxford, PA; United Canning Corp., North Lima, OH.

EFFECTIVE DATE: June 11, 2001.

FOR FURTHER INFORMATION CONTACT: David J. Goldberger or Katherine Johnson, Import Administration, International Trade Administration, U.S. Department of Commerce, 14th Street and Constitution Avenue, N.W., Washington, D.C. 20230; telephone: (202) 482-4136 or (202) 482-4929, respectively.

SUPPLEMENTARY INFORMATION:

Applicable Statute

Unless otherwise indicated, all citations to the Tariff Act of 1930, as amended (the Act), are references to the provisions effective January 1, 1995, the effective date of the amendments made to the Act by the Uruguay Round Agreements Act. In addition, unless otherwise indicated, all citations to the Department of Commerce's (the Department's) regulations are to 19 CFR Part 351 (1999).

Background

On November 7, 2000, the Department published the preliminary results of the new shipper review of Raoping Xingyu Foods, Ltd. (Raoping), and the preliminary results of the administrative review of China Processed Food Import & Export Co. (China Processed) and Gerber Food (Yunnan) Co. (Gerber) with respect to the antidumping duty order on certain preserved mushrooms from the People's Republic of China (PRC) (65 FR 66703). We invited interested parties to comment on the preliminary results of these reviews. On April 6, 2001, we received comments from the petitioners, Gerber, and Raoping. The petitioners, China Processed, Gerber, and Raoping submitted rebuttal comments on April 13, 2001. The Department has now completed these reviews, in accordance with section 751 of the Act and 19 CFR 351.213 and 351.214.

Scope of the Order

The products covered by the order are certain preserved mushrooms whether imported whole, sliced, diced, or as stems and pieces. The preserved mushrooms covered under the order are the species Agaricus bisporus and Agaricus bitorquis. “Preserved mushrooms” refer to mushrooms that have been prepared or preserved by cleaning, blanching, and sometimes slicing or cutting. These mushrooms are then packed and heated in containers including but not limited to cans or glass jars in a suitable liquid medium, including but not limited to water, brine, butter or butter sauce. Preserved mushrooms may be imported whole, sliced, diced, or as stems and pieces. Included within the scope of the order are “brined” mushrooms, which are presalted and packed in a heavy salt solution to provisionally preserve them for further processing.

Excluded from the scope of the order are the following: (1) All other species of mushroom, including straw mushrooms; (2) all fresh and chilled mushrooms, including “refrigerated” or “quick blanched mushrooms”; (3) dried mushrooms; (4) frozen mushrooms; and (5) “marinated,” “acidified” or “pickled” mushrooms, which are prepared or preserved by means of vinegar or acetic acid, but may contain oil or other additives.²

² On June 19, 2000, the Department affirmed that “marinated,” “acidified,” or “pickled” mushrooms containing less than 0.5 percent acetic acid are within the scope of the antidumping duty order. See “Recommendation Memorandum—Final Ruling of Request by Tak Fat, et al. for Exclusion of Certain Marinated, Acidified Mushrooms from the Scope of the Antidumping Duty Order on Certain Preserved Mushrooms from the People's Republic of China,” dated June 19, 2000.

The merchandise subject to the order is currently classifiable under subheadings 2003.10.0027, 2003.10.0031, 2003.10.0037, 2003.10.0043, 2003.10.0047, 2003.10.0053, and 0711.90.4000 of the Harmonized Tariff Schedule of the United States (“HTSUS”). Although the HTSUS subheadings are provided for convenience and customs purposes, the written description of the scope of the order is dispositive.

Analysis of Comments Received

All issues raised in the case and rebuttal briefs by parties to these administrative reviews are addressed in the “Issues and Decision Memorandum” (Decision Memorandum) from Richard W. Moreland, Deputy Assistant Secretary for Import Administration, to Faryar Shirzad, Assistant Secretary for Import Administration, dated May 31, 2001, which is hereby adopted by this notice. A list of the issues which parties have raised and to which we have responded, all of which are in the Decision Memorandum, is attached to this notice as an Appendix. Parties can find a complete discussion of all issues raised in these reviews and the corresponding recommendations in this public memorandum which is on file the Central Records Unit in Room B-099 of the main Commerce Building. In addition, a complete version of the Decision Memorandum can be accessed directly on the Web at http://ia.ita.doc.gov/frn. The paper copy and electronic version of the Decision Memorandum are identical in content.

Changes Since the Preliminary Results

Based on our analysis of the comments received, we have made certain changes to the margin calculations. For a discussion of these changes, see the “Margin Calculations” section of the Decision Memorandum.

Final Results of Review

We determine that the following weighted-average margin percentages exist for the period August 5, 1998, through January 31, 2000:

Exporter/manufacturer | Margin percentage
Raoping Xingyu Foods Co., Ltd | 47.61
China Processed Food Import & Export Co | 0.00
Gerber Food (Yunnan) Co | 111.04

Assessment Rates

The Department shall determine, and the Customs Service shall assess, antidumping duties on all appropriate entries. In accordance with 19 CFR 351.212(b), we have calculated importer-specific ad valorem duty assessment rates. We will direct the Customs Service to assess the resulting percentage margins against the entered Customs values for the subject merchandise on each of that importer's entries under the relevant order during the review period (see 19 CFR 351.212(a)). Pursuant to 19 CFR 351.106(c)(2), we will instruct the Customs Service to liquidate without regard to antidumping duties all entries for any importer for whom the assessment rate is de minimis (i.e., less than 0.50 percent). For entries from the PRC non-market economy (NME) entity companies (i.e., PRC exporters which are not entitled to separate rates), the Customs Service shall assess ad valorem duties at the PRC-wide rate. Because the PRC-wide entity was not reviewed during this period of review (POR), the PRC-wide rate remains that established in the less-than-fair-value investigation.

Cash Deposit Requirements

The following deposit rates shall be required for merchandise subject to the order entered, or withdrawn from warehouse, for consumption on or after the publication date of these final results of administrative and new shipper reviews, as provided by section 751(a)(1) of the Act: (1) The cash deposit rate for each reviewed company will be the rate indicated above; (2) the cash deposit rate for PRC exporters who received a separate rate in a prior segment of the proceeding but of whom a review was not requested for this POR will continue to be the rate assigned in that segment of the proceeding; (3) the cash deposit rate for the PRC NME entity (i.e., all other exporters which have not been reviewed) will continue to be 198.63 percent; and (4) the cash deposit rate for non-PRC exporters of subject merchandise from the PRC will be the rate applicable to the PRC supplier of that exporter. These deposit requirements, when imposed, shall remain in effect until publication of the final results of the next administrative review for these companies.

This notice serves as a final reminder to importers of their responsibility under 19 CFR 351.402(f) to file a certificate regarding the reimbursement of antidumping duties prior to liquidation of the relevant entries during these review periods. Failure to comply with this requirement could result in the Secretary's presumption that reimbursement of antidumping duties occurred and the subsequent assessment of double antidumping duties.

This notice also serves as the only reminder to parties subject to administrative protective orders (APO) of their responsibility concerning the return or destruction of proprietary information disclosed under APO in accordance with 19 CFR 351.305. Timely written notification of the return/destruction of APO materials or conversion to judicial protective order is hereby requested. Failure to comply with the regulations and terms of an APO is a violation which is subject to sanction.

These administrative reviews and notice are in accordance with sections 751(a)(1) and 777(i)(1) of the Act and 19 CFR 351.213 and 351.214.

Dated: May 31, 2001.
Faryar Shirzad,
Assistant Secretary for Import Administration.

Appendix

List of Comments and Issues in the Decision Memorandum:

Comment 1: India versus Indonesia as Surrogate Country

Comment 2: Fresh Mushroom Valuation

Comment 3: Factory Overhead, SG&A, and Profit Ratios

Comment 4: Classification of Personnel Expenses

Comment 5: Valuation of Tin Plate

Comment 6: Valuation of Steam Coal

Comment 7: Valuation of Cans Consumed by Raoping

Comment 8: Adjustment for Brined Mushrooms Valuation

Comment 9: Spawn Valuation Calculation

Comment 10: Bona Fides of China Processed's U.S. Sale

Comment 11: Use of China Processed's Factor Data

Comment 12: Raoping's Labor Consumption Figure

[FR Doc. 01-14644 Filed 6-8-01; 8:45 am]

BILLING CODE 3510-DS-P